SMALL BUSINESS ADMINISTRATION

[Declaration of Disaster #3300]

State of Florida; and Contiguous Counties in Georgia

Leon County and the contiguous counties of Gadsden, Jefferson, Liberty, and Wakulla in the State of Florida, and Grady and Thomas Counties in the State of Georgia constitute a disaster area due to damages from heavy rains and flooding caused by Tropical Storm Helene that occurred September 22-24, 2000. Applications for loans for physical damage as a result of this disaster may be filed until the close of business on November 27, 2000 and for economic injury until the close of business on June 28, 2001 at the address listed below or other locally announced locations: U.S. Small Business Administration, Disaster Area 2 Office, One Baltimore Place, Suite 300,Atlanta, GA 30308.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The numbers assigned to this disaster for physical damages are 330006 for Florida and 330106 for Georgia. For economic injury the numbers are 9J1600 for Florida and 9J1700 for Georgia.

(Catalog of Federal Domestic Assistance Program Nos. 59002 and 59008)
Dated: September 28, 2000.
Aida Alvarez,
Administrator.

[FR Doc. 00-25797 Filed 10-5-00; 8:45 am]

BILLING CODE 8025-01-U